ENVIRONMENTAL PROTECTION AGENCY

40 CFR Part 435

[FRL-6929-8]

RIN 2040-AD14

Effluent Limitations Guidelines and New Source Performance Standards for the Oil and Gas Extraction Point Source Category; OMB Approval Under the Paperwork Reduction Act: Technical Amendment

Correction

In rule document 01-361 beginning on page 6850, in the issue of Monday, January 22, 2001, make the following correction:

§ 435.15 [Corrected]

On page 6900, in §435.15, in the table titled “New Source Performance Standards (NSPS)” under the heading “NSPS” in the fourth line, “No charge” should read “No discharge”.

[FR Doc. C1-361 Filed 6-19-01; 8:45 am]

BILLING CODE 1505-01-D

DEPARTMENT OF HOUSING AND URBAN DEVELOPMENT

24 CFR Part 966

[Docket No. FR-4495-F-02]

RIN 2501-AC63

Screening and Eviction for Drug Abuse and Other Criminal Activity

Correction

In the issue of Monday, June 18, 2001, on page 32875, in the first column, in the correction of rule document 01-12840, the correction should read:

§966.4 [Corrected]

1. On page 28802, in the third column, in §966.4, in instruction 29 in the second line, “(d)(1), (f)12), (1)(2), (1)(3)(i) and (1)(5) ” should read “(d)(1), (f)(12), (l)(2), (l)(3)(i) and (l)(5)”

2. On the same page, in the same column, in the same section, in the fourth line from the bottom, “(1)***” should read “(l)***”.

[FR Doc. C1-12840 Filed 6-19-01; 8:45 am]

BILLING CODE 1505-01-D

SECURITIES AND EXCHANGE COMMISSION

[Release No. 44372; File No. SR-Phix-2001-59]

Self-Regulatory Organizations; Notice of Filing and Order Granting Accelerated Approval of Proposed Rule Change by the Philadelphia Stock Exchange, Inc. Relating to Dealing Directly with Specialist and Registered Option Traders in Foreign Currency Options

May 31, 2001.

Correction

In notice document 01-14312 beginning on page 30780 in the issue of Thursday, June 7, 2001, the date is corrected to read as set forth above.

[FR Doc. C1-14312 Filed 6-19-01; 8:45 am]

BILLING CODE 1505-01-D

SECURITIES AND EXCHANGE COMMISSION

[Release No. 34-44353; File No. SR-CBOE-2001-18]

Self-Regulatory Organizations; Notice of Filing and Immediate Effectiveness of Proposed Rule Change by the Chicago Board Options Exchange Incorporated to Exempt Certain Deep-in-the-Money Options Transactions from the Exchange Marketing Fee

Correction

In notice document 01-14026 beginning on page 30251 in the issue of Tuesday, June 5, 2001, the docket number is added to read as set forth above.

[FR Doc. C1-14026 Filed 6-19-01; 8:45 am]

BILLING CODE 1505-01-D

DEPARTMENT OF TRANSPORTATION

Federal Aviation Administration

International Conference on Fire and Cabin Safety Research

Correction

In notice document 01-14912 beginning on page 31964 in the issue of Wednesday, June 13, 2001, make the following corrections:

1. On page 31964, in the second column, in the last line, the website address “http://www.fire.tc./faa.gov” should read “http://www.fire.tc.faa.gov”.

2. On the same page, in the third column, in the last line, the email address “lewis@tc.gc.ca” should read “lewisc@tc.gc.ca”.

3. On page 31965, in the first column, under the heading “In Australia:”, in the first paragraph, in the last line, the email address “BYERS B@casa.gov.au” should read “BYERS_B@casa.gov.au”.

[FR Doc. C1-14912 Filed 6-19-01; 8:45 am]

BILLING CODE 1505-01-D